DEPARTMENT OF TRANSPORTATION

Coast Guard

33 CFR Part 100

[CGD 07-00-107]

RIN 2115-AE46

Special Local Regulation; Charleston Christmas Parade of Boats, Charleston Harbor, SC

AGENCY: Coast Guard, DOT.

ACTION: Final rule.

SUMMARY: The Coast Guard is revising the parade route for the Charleston Christmas Parade of Boats. The change in the parade route is necessary to provide improved viewing for the spectators, to reduce the impact on commercial traffic in Charleston Harbor and to provide for the safety of life on the navigable waters during the event.

DATES: This rule is effective December 11, 2000.

ADDRESSES: Comments and material received from the public, as well as documents indicated in this preamble as being available in the docket, are part of docket CGD 07-00-107 and are available for inspection or copying at Commander, Seventh Coast Guard District, 909 S.E. 1st Street, Suite 918, Miami, Florida 33131, between 9 a.m. and 4 p.m., Monday through Friday, except Federal holidays.

FOR FURTHER INFORMATION CONTACT: QMC David Jersey Coast Guard Group Charleston, South Carolina at (843) 724-7600.

SUPPLEMENTARY INFORMATION:

Regulatory Information

We did not publish a notice of proposed rulemaking (NPRM) for this regulation. Under 5 U.S.C. 553(b)(B), the Coast Guard finds that good cause exists for not publishing an NPRM. Publishing a NPRM is impracticable as we were only recently informed of the change in parade route, and these regulations are needed to provide for the safety of life on navigable waters during the event.

Background and Purpose

Each year a Christmas boat parade is held in Charleston Harbor, South Carolina. We previously issued a permanent special local regulation for this event, at 33 CFR 100.721. Under this regulation the parade route started near the Wando River Terminal, and proceeded south past the Cooper River Bridge, and then around the peninsula and up the Ashley River and ending at City Marina. The parade route is changing this year in order to provide improved viewing for the spectators, to reduce the impact on commercial traffic in Charleston Harbor and to provide for the safety of life on the navigable waters during the event. This year the parade starts in the Middle Ground, a more open area, proceeds generally north west towards Town Creek, and then southerly around the peninsula as in previous years.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979). The Coast Guard expects the economic impact of this proposal to be so minimal that a full Regulatory Evaluation under paragraph 10e of the regulatory policies and procedures of DOT is unnecessary. This rule is only effective for 4 hours on the day of the parade, and will expire thereafter.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: the owners or operators of vessels intending to transit or anchor in a portion of Charleston Harbor from 4:30 p.m. to 8:30 p.m. on December 9, 2000.

This special local regulation will not have a significant economic impact on a substantial number of small entities for the following reasons. This regulation will only be in effect a total of four hours on the day of the event. Further, the parade route is configured to minimize the impact on commercial traffic and vessel traffic can pass around the parade route.

Assistance for Small Entities

Under section 213(a) of the Small Business Regulatory Enforcement Fairness Act of 1996 (Pub. L. 104-121), we offered to assist small entities in understanding the rule so that they could better evaluate its effects on them and participate in the rulemaking process. If the rule will affect your small business, organization, or government jurisdiction and you have questions concerning its provisions or options for compliance, please contact the person listed under FOR FURTHER INFORMATION CONTACT for assistance in understanding this rule.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this rule and concluded that under figure 2-1, paragraph 34(h), of Commandant Instruction M16475.lC, this rule is categorically excluded from further environmental documentation.

List of Subjects in 33 CFR Part 100

Marine safety, Navigation (water), Reporting and recordkeeping requirements, Waterways.

In consideration of the foregoing, the Coast Guard amends 33 CFR Part 100 as follows:

1. The authority citation for part 100 continues to read as follows:

Authority: 33 U.S.C. 1233 through 1236; 49 CFR 1.46; 33 CFR 100.35.

2. In § 100.721 revise paragraph (a)(2) to read as follows:

§ 100.721 Charleston Christmas Parade of Boats, Charleston Harbor, SC.

(a) * * *

(2) Parade Route. The parade will organize in the Middle Ground, north of Charleston South Channel. The parade will proceed north along the west edge of Commercial Anchorage A, entering Rebellion Reach in the vicinity of Charleston HBR N Chan LB 2 (Light List Number 2505) at approximate position 32°46.3′N, 079°53.3′W, thence proceeding up Folly Shutes, and Horse Reach to approximately two-tenths of a nautical mile north of USS Yorktown at position 32°47.7′N, 079°54.7′W, thence across Hog Island Reach near Charleston Harbor N. Channel LB 11 (Light List Number 2529) at approximate position 32°47.6′N, 079°55.1′W, entering Town Creek Lower reach near Town Creek Chan LB2 (Light List Number 2715) at approximate position 32°47.7′N, 079°55.5′W thence south to 32°45.7′N, 079°55.3′W (approximately one half nautical mile southeast of Battery Point), thence up the Ashley River, and continuing to the finishing point at City Marina (32°46.6′N, 079°57.2′W). All coordinates referenced use datum: NAD 1983.

* * * * *

Dated: October 27, 2000.
G.W. Sutton,
U.S. Coast Guard, Acting Commander, Seventh Coast Guard District.

[FR Doc. 00-28535 Filed 11-8-00; 8:45 am]

BILLING CODE 4910-15-P